DEPARTMENT OF HEALTH AND HUMAN SERVICES

Administration for Children and Families

Submission for OMB Review; Head Start Program Performance Standards (OMB #0970-0148)

AGENCY: Office of Head Start, Administration for Children and Families, HHS.

ACTION: Request for public comment.

SUMMARY: The Office Head Start (OHS), Administration for Children and Families (ACF), U.S. Department of Health and Human Services (HHS), is requesting a 3-year extension of the information collection requirements under the Head Start Program Performance Standards (OMB #0970-0148). There are no changes to the information collection.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: Section 641A of the Head Start Act, 42 U.S.C. 9836A, directs HHS to develop “scientifically based and developmentally appropriate education performance standards related to school readiness” and “ensure that any such revisions in the standards do not result in the elimination of or any reduction in quality, scope, or types of health, educational, parental involvement, nutritional, social, or other services.” The Office of Head Start (OHS) announced in the Federal Register in 2016 the first comprehensive revision of the Head Start Program Performance Standards (HSPPS) since their original release in 1975. This information collection was approved alongside the final rule for the HSPPS.

This information collection is entirely recordkeeping and does not contain any standardized instruments to provide flexibility for local programs. These records are intended to act as a tool for grantees and delegate agencies to be used in their day-to-day operations. For example, this includes the requirement that programs maintain a waiting list of eligible families. There are no changes to the record keeping requirements.

Respondents: Head Start Grantees. Depending on the standard, the calculated burden hours is based on the individual enrollee (1,054,720), family (956,120), program (3,020), or staff (265,030). In a few cases, only a proportion of one of these may apply.

Annual Burden Estimates
Instrument | Total number of respondents | Total number of responses per respondent | Average burden hours per response | Total burden hours | Annual burden hours
1301.6(a) | 3,020 | 1 | 0.70 | 2,114 | 2,114
1302.12(k) | 1,054,720 | 1 | .166 | 175,084 | 175,084
1302.14(c) | 3,020 | 1 | 2.00 | 6,040 | 6,040
1302.16(b) | 3,020 | 1 | 5.00 | 15,100 | 15,100
1302.33(a)-(b) | 1,054,720 | 1 | 1.00 | 1,054,720 | 1,054,720
1302.33(c)(2) | 294,632 | 1 | 2.00 | 589,264 | 589,264
1302.42(a)-(b) | 1,054,720 | 1 | 0.66 | 696,115 | 696,115
1302.42(e) | 3,020 | 1 | 0.50 | 1,510 | 1,510
1302.47(b)(7)(iv) | 3,020 | 1 | 0.50 | 1,510 | 1,510
1302.53(b)-(d) | 3,020 | 1 | 0.166 | 501 | 501
1302.90(a) | 3,020 | 1 | 0.50 | 1,510 | 1,510
1302.90(b)(1)(i)-(iv), (b)(4) | 79,509 | 1 | 0.33 | 26,238 | 26,238
1302.93(a) | 26,503 | 1 | 0.25 | 6,626 | 6,626
1302.94(a) | 3,020 | 1 | 0.166 | 501 | 501
1302.101(a)(4), 1302.102(b)-(c) | 3,020 | 1 | 79.00 | 238,580 | 238,580
1302.102(d)(3) | 110 | 1 | 10.00 | 1,100 | 1,100
1303.12 | 3,020 | 1 | 0.166 | 501 | 501
1303.22-24 | 956,120 | 1 | 0.33 | 315,520 | 315,520
1303.42-53 | 260 | 1 | 40.00 | 10,400 | 10,400
1303.70(c) | 200 | 1 | 1.00 | 200 | 200
1303.72(a)(3) | 3,020 | 1 | 2.00 | 6,040 | 6,040
1304.13 | 75 | 1 | 60.00 | 4,500 | 4,500
1304.15(a) | 400 | 1 | 0.25 | 100 | 100

Estimated Total Annual Burden Hours: 3,153,774.

Authority: 42 U.S.C. 9836A.

Mary B. Jones,
ACF/OPRE Certifying Officer.

[FR Doc. 2021-14123 Filed 6-29-21; 8:45 am]

BILLING CODE 4184-40-P